DEPARTMENT OF LABOR

Employment and Training Administration

[TA-W-64,242]

Emerald Kalama Chemical, LLC, Kalama, WA; Notice of Termination of Investigation

In accordance with Section 221 of the Trade Act of 1974, as amended, an investigation was initiated on October 17, 2008 in response to a worker petition filed on behalf of workers of Emerald Performance Materials, LLC, Kalama, Washington.

The petitioners have requested that the petition be withdrawn. Consequently, the investigation has been terminated.

Signed in Washington, DC, this 23rd day of October 2008.
Richard Church,
Certifying Officer, Division of Trade Adjustment Assistance.

[FR Doc. E8-26045 Filed 10-31-08; 8:45 am]

BILLING CODE 4510-FN-P